ENVIRONMENTAL PROTECTION AGENCY

[FRL-8739-9]

Proposed Issuance of a General NPDES Permit (GP) for Federal Aquaculture Facilities and Aquaculture Facilities Located in Indian Country in the State of Washington (Permit Number WAG-13-0000)

AGENCY: Environmental Protection Agency.

ACTION: Notice of availability of a draft general NPDES permit.

SUMMARY: Some of the federal and tribal aquaculture facilities proposed to be covered under this general permit have expired individual NPDES permits; others have never been issued such a permit. The Director, Office of Water and Watersheds, EPA Region 10, proposes to issue a general permit to cover Federal aquaculture facilities and aquaculture facilities in Indian country, as defined in 18 U.S.C. 1151, within the State of Washington.

DATES: Comments must be received or postmarked by December 29, 2008. Persons wishing to request a public hearing should submit their written request by November 28, 2008, stating the nature of the issues to be raised as well as the requester's name, address and telephone number to Sharon Wilson at the address below.

ADDRESSES: Public Comment:All comments on the proposed General Permit and requests for public hearing must be sent to Sharon Wilson, USEPA Region 10; 1200 Sixth Avenue, Suite 900, OWW-130, Seattle, Washington 98101-3140 or by e-mail to wilson.sharon@epa.gov.

Public Meeting: EPA will hold a public meeting to provide an overview of the permit and to answer questions.

Location: U.S Environmental Protection Agency.

Address: 1200 Sixth Avenue, 12th floor, Seattle, WA.

Date: Wednesday, December 17, 2008.

Permit Overview: 1-1:30 p.m.

Questions & Answers: 1:30 to 3 p.m. or until done.

FOR FURTHER INFORMATION CONTACT: Sharon Wilson, 206-553-0325, or wilson.sharon@epa.gov for technical information. Copies of the draft general permit and fact sheet are also available upon request from Audrey Washington at 206-553-0523 or washington.audrey@epa.gov.

SUPPLEMENTARY INFORMATION: Fact Sheet: A fact sheet has been prepared which sets forth the principal factual, legal, policy, and scientific information considered in the development of the draft general permit. Copies of the draft permit and fact sheet are available for public review at:

U.S. EPA Region 10, NPDES Permits Unit, OWW-130, 1200 Sixth Avenue, Suite 900, Seattle, Washington 98101-3140;

Northwest Indian Fisheries Commission, 6730 Martin Way East, Olympia, WA 98516.

The general permit and fact sheet may also be downloaded at http://yosemite.epa.gov/r10/water.nsf/NPDES+Permits/DraftPermitsORWA.The complete administrative record for the draft permit is available for public review at the EPA Region 10 office at the address listed above.

Public Meeting: Written comments receive as much consideration as oral comments at a public hearing. Persons wishing to request a public hearing should submit their written request by the date designated in the DATES section above, stating the nature of the issues to be raised as well as the requester's name, address and telephone number to Sharon Wilson at the address above. If a public hearing is scheduled, notice will be published in the Federal Register. Notice will also be posted on the Region 10 Web site and will be mailed to all interested persons receiving notice of availability of the draft permit.

Other Legal Requirements

A. Endangered Species Act

EPA has determined that issuance of the General Permit is not likely to adversely affect threatened or endangered fish, marine mammals, or birds, designated critical habitat, or essential fish habitat. EPA has also determined that issuance of the permit will have no effect on threatened or endangered marine reptiles, terrestrial animals, or invertebrates.

B. Executive Order 12866

EPA has determined that this general permit is not a “significant regulatory action” under the terms of Executive Order 12866 and is therefore not subject to OMB review.

C. Paperwork Reduction Act

The information collection requirements of this permit were previously approved by the Office of Management and Budget (OMB) under the provisions of the Paperwork Reduction Act, 44 U.S.C. 3501 et seq., and assigned OMB control numbers 2040-0086 (NPDES permit application) and 2040-0004 (discharge monitoring reports).

D. Regulatory Flexibility Act

The Regulatory Flexibility Act (RFA), 5 U.S.C. 601 et seq., requires that EPA prepare a regulatory flexibility analysis for rules subject to the requirements of 5 U.S.C. 553(b) that have a significant impact on a substantial number of small entities. However, general NPDES permits are not “rules” subject to the requirements of 5 U.S.C. 553(b) and are therefore not subject to the RFA.

E. Unfunded Mandates Reform Act

Section 201 of the Unfunded Mandates Reform Act (UMRA), Public Law 104-4, generally requires Federal agencies to assess the effects of their “regulatory actions” (defined to be the same as “rules” subject to the RFA) on tribal, state, and local governments and the private sector. However, general NPDES permits are not “rules” subject to the requirements of 5 U.S.C. 553(b) and are therefore not subject to the RFA or the UMRA.

Dated: November 3, 2008.
Michael F. Gearheard,
Director, Office of Water & Watersheds, Region 10.

[FR Doc. E8-26865 Filed 11-10-08; 8:45 am]

BILLING CODE 6560-50-P